DEPARTMENT OF HOMELAND SECURITY

Coast Guard

33 CFR Part 100

[Docket No. USCG-2017-0760]

Special Local Regulations; Marine Events Within the Seventh Coast Guard District

AGENCY: Coast Guard, DHS.

ACTION: Notice of enforcement of regulation.

SUMMARY: The Coast Guard will enforce special local regulations for the Ironman Triathlon in Augusta, Georgia on 24 September 2017, to provide for the safety of life on navigable waterways during this event. Our regulation for marine events within the Seventh Coast Guard District identifies the regulated area for this event in Augusta, GA. During the enforcement periods, the operator of any vessel in the regulated area must comply with directions from the Patrol Commander or any Official Patrol displaying a Coast Guard ensign.

DATES: The regulations in 33 CFR 100.701, Table to § 100.701(f), Line No. 3, will be enforced on September 24, 2017 from 6 a.m. until 12 p.m.

FOR FURTHER INFORMATION CONTACT: If you have questions about this notice of enforcement, call or email MST2 Adam White, Marine Safety Unit Savannah Office of Waterways Management, U.S. Coast Guard; telephone 912-652-4353, extension 233, or email Adam.C.White@uscg.mil.

SUPPLEMENTARY INFORMATION: The Coast Guard will enforce special local regulations in 33 CFR 100.701, Table to § 100.701(f), COTP Zone Savannah; Special Local Regulations, Line no. 3, from 6 a.m. to 12 p.m. on September 24, 2017 for the Ironman Triathlon. This action is being taken to provide for the safety of life on navigable waterways during this event. Our regulation for marine events within the Seventh Coast Guard District, § 100.701, specifies the location of the regulated area for the Ironman Triathlon which encompasses portions of the Savannah River and its branches. During the enforcement periods, as reflected in § 100.100(c), if you are the operator of a vessel in the regulated area you must comply with directions from the Patrol Commander or any Official Patrol displaying a Coast Guard ensign.

This notice of enforcement is issued under authority of 33 CFR 100.701 and 5 U.S.C. 552(a). In addition to this notice of enforcement in the Federal Register, the Coast Guard plans to provide notification of this enforcement period via the Local Notice to Mariners, Broadcast Notice to Mariners, Marine Safety Security Bulletins, and on-scene designated representatives.

Dated: August 18, 2017.
N.C. Witt,
Commander, U.S. Coast Guard, Captain of the Port Savannah.

[FR Doc. 2017-17962 Filed 8-23-17; 8:45 am]

BILLING CODE 9110-04-P